ENVIRONMENTAL PROTECTION AGENCY

40 CFR Part 52

[EPA-R05-OAR-2018-0634; FRL-10007-66-Region 5]

Air Plan Approval; Indiana; Revisions to NOX SIP Call and CAIR Rules; Withdrawal of Direct Final Rule

AGENCY: Environmental Protection Agency (EPA).

ACTION: Withdrawal of direct final rule.

SUMMARY: Due to the receipt of adverse comments, the Environmental Protection Agency (EPA) is withdrawing the February 21, 2020, direct final rule approving a request from the Indiana Department of Environmental Management (IDEM) to revise the Indiana State Implementation Plan (SIP).

DATES: The direct final rule published at 85 FR 10064 on February 21, 2020 is withdrawn as of April 10, 2020.

FOR FURTHER INFORMATION CONTACT: Eric Svingen, Environmental Engineer, Attainment Planning and Maintenance Section, Air Programs Branch (AR-18J), Environmental Protection Agency, Region 5, 77 West Jackson Boulevard, Chicago, Illinois 60604, (312) 353-4489, svingen.eric@epa.gov.

SUPPLEMENTARY INFORMATION: On February 21, 2020 at 85 FR 10064 the EPA approved a request from the Indiana Department of Environmental Management (IDEM) to revise the Indiana State Implementation Plan (SIP) to incorporate the following: A new rule concerning nitrogen oxide (NOX) emissions for the ozone season from Electric Generating Units (EGUs) and large non-EGUs; revisions concerning NOX emission rate limits for specific source categories; the repeal of the NOX Budget Trading Program; and the repeal of the Clean Air Interstate Rule (CAIR) NOX ozone season trading program. The State of Indiana submitted this revision as a modification to the SIP on August 27, 2018. In the direct final rule, EPA stated that if adverse comments were submitted by March 23, 2020, the rule would be withdrawn and not take effect. On March 23, 2020, EPA received adverse comments, and, therefore, is withdrawing the direct final rule. EPA will address the comments in a subsequent final action based upon the proposed action also published on February 21, 2020 (85 FR 10127). EPA will not institute a second comment period on this action.

List of Subjects in 40 CFR Part 52

Environmental protection, Air pollution control, Incorporation by reference, Intergovernmental relations, Lead, Nitrogen dioxide, Ozone, Particulate matter, Reporting and recordkeeping requirements, Sulfur oxides.

Authority: 42 U.S.C. 7401 et seq.

Dated: April 1, 2020.
Kurt Thiede,
Regional Administrator, Region 5.

PART 52—APPROVAL AND PROMULGATION OF IMPLEMENTATION PLANS

Accordingly, the amendment to 40 CFR 52.770 published in the Federal Register on February 21, 2020 (85 FR 10064) on page 10070 is withdrawn as of April 10, 2020.

[FR Doc. 2020-07250 Filed 4-9-20; 8:45 am]

BILLING CODE 6560-50-P